DEPARTMENT OF COMMERCE

National Oceanic and Atmospheric Administration

RIN 0648-XC478

Taking and Importing Marine Mammals; Taking Marine Mammals Incidental to Space Vehicle and Test Flight Activities From Vandenberg Air Force Base, CA

AGENCY: National Marine Fisheries Service, National Oceanic and Atmospheric Administration, Commerce.

ACTION: Notice of issuance of a Letter of Authorization.

SUMMARY: In accordance with the Marine Mammal Protection Act (MMPA), as amended, and implementing regulations, notification is hereby given that a letter of authorization (LOA) has been issued to the 30th Space Wing, U.S. Air Force (USAF), to take four species of seals and sea lions incidental to rocket and missile launches on Vandenberg Air Force Base (VAFB), California, a military readiness activity.

DATES: Effective February 7, 2013, through February 6, 2014.

ADDRESSES: The LOA and supporting documentation are available for review by writing to P. Michael Payne, Chief, Permits and Conservation Division, Office of Protected Resources, National Marine Fisheries Service (NMFS), 1315 East-West Highway, Silver Spring, MD 20910, by telephoning one of the contacts listed here (FOR FURTHER INFORMATION CONTACT) or online at: http://www.nmfs.noaa.gov/pr/permits/incidental.htm. Documents cited in this notice may be viewed, by appointment, during regular business hours, at the aforementioned address and at the Southwest Regional Office, NMFS, 501 West Ocean Boulevard, Suite 4200, Long Beach, CA 90802.

FOR FURTHER INFORMATION CONTACT: Candace Nachman, Office of Protected Resources, NMFS, (301) 427-8401, or Monica DeAngelis, NMFS, (562) 980-3232.

SUPPLEMENTARY INFORMATION:

Background

Section 101(a)(5)(A) of the MMPA (16 U.S.C. 1361 et seq.) directs NMFS to allow, upon request, the incidental, but not intentional, taking of small numbers of marine mammals by U.S. citizens who engage in a specified activity (other than commercial fishing) within a specified geographical region if certain findings are made and regulations are issued. The National Defense Authorization Act (Public Law 108-136) removed the “small numbers” and “specified geographical region” limitations for a “military readiness activity.” Under the MMPA, the term “taking” means to harass, hunt, capture, or kill or to attempt to harass, hunt, capture, or kill marine mammals.

Authorization may be granted for periods up to 5 years if NMFS finds, after notification and opportunity for public comment, that the taking will have a negligible impact on the species or stock(s) of marine mammals and will not have an unmitigable adverse impact on the availability of the species or stock(s) for subsistence uses (where relevant). In addition, NMFS must prescribe regulations that include permissible methods of taking and other means effecting the least practicable adverse impact on the species and its habitat and on the availability of the species for subsistence uses, paying particular attention to rookeries, mating grounds, and areas of similar significance. The regulations must include requirements for monitoring and reporting of such taking.

Regulations governing the taking of Pacific harbor seals (Phoca vitulina richardsi), northern elephant seals (Mirounga angustirostris), California sea lions (Zalophus californianus), and northern fur seals (Callorhinus ursinus), by harassment, incidental to missile and rocket launches, aircraft flight test operations, and helicopter operations at VAFB, were issued on February 6, 2009 (74 FR 6236), and remain in effect until February 6, 2014. In April 2011, the USAF requested a deviation from the precise language contained in the 2009 final rule regarding the annual number of missile and rocket launches. On February 1, 2012 (77 FR 4917), NMFS issued final regulations that revised the number of missile and rocket launches that the USAF could conduct from VAFB on an annual basis. Instead of the 30 missile and 20 rocket launches authorized per year in 2009, the USAF's specified activity now includes 15 missile and 35 rocket launches per year. However, the total number of annual launches remains at 50. This regulatory amendment does not change the analyses of marine mammal impacts conducted in the original final rule. For detailed information on the USAF's activities and potential impacts, please refer to those documents. These regulations include mitigation, monitoring, and reporting requirements for the incidental take of marine mammals during missile and rocket launches at VAFB.

This LOA is effective from February 7, 2013, through February 6, 2014, and authorizes the incidental take, by Level B harassment only, of the four marine mammal species listed here that may result from the launching of up to 15 missiles and up to 35 rockets annually from VAFB, as well as from aircraft and helicopter operations. Harbor seals haul-out on several sites on VAFB, and harbor seals, California sea lions, elephant seals, and northern fur seals are found on various haul-out sites and rookeries on San Miguel Island (SMI). Currently, six space launch vehicle programs use VAFB to launch satellites into polar orbit: Delta II; Taurus; Atlas V; Delta IV; Falcon; and Minotaur. Also a variety of small missiles, several types of interceptor and target vehicles, and fixed-wing aircrafts are launched from VAFB.

The activities under these regulations create two types of noise: continuous (but short-duration) noise, due mostly to combustion effects of aircraft and launch vehicles, and impulsive noise, due to sonic boom effects. Launch operations are the major source of noise on the marine environment from VAFB. The operation of launch vehicle engines produces significant sound levels. The noise generated by VAFB activities may result in the incidental harassment of pinnipeds, both behaviorally and in terms of physiological (auditory) impacts. The noise and visual disturbances from space launch vehicle and missile launches and aircraft and helicopter operations may cause the animals to move towards or enter the water. Take of pinnipeds will be minimized through implementation of the following mitigation measures: (1) All aircraft and helicopter flight paths must maintain a minimum distance of 1,000 ft (305 m) from recognized seal haul-outs and rookeries; (2) missile and rocket launches must, whenever possible, not be conducted during the harbor seal pupping season of March through June; (3) VAFB must avoid, whenever possible, launches which are predicted to produce a sonic boom on the Northern Channel Islands during the primary pinniped pupping seasons of March through June; and (4) monitoring methods will be reviewed by NMFS if post-launch surveys determine that an injurious or lethal take of a marine mammal occurred. VAFB will also use monitoring surveys, audio-recording equipment, and time-lapse video to monitor the animals before, during, and after rocket launches, and to measure sound levels generated by the launches. Reports will be submitted to NMFS after each LOA expires, and a final comprehensive report, which will summarize all previous reports and assess cumulative impacts, will be submitted before the rule expires.

Summary of Request

On December 10, 2012, NMFS received a request for a LOA renewal pursuant to the aforementioned regulations that would authorize, for a period not to exceed 1 year, take of marine mammals, by harassment, incidental to space vehicle and test flight activities at VAFB. Summary of Activity and Monitoring Under the 2012 LOA

In compliance with the 2012 LOA, VAFB submitted an annual report on the activities at VAFB, covering the period of December 1, 2011, through November 30, 2012. A summary of the 2012 report (MMCG and SAIC, 2012) follows.

During the reporting period covered by the 2012 report, there were a total of four launches from VAFB: two space vehicle launches and two missile launches. The dates, locations, and whether or not monitoring was required for the launches are summarized in Table 1 next.

Table 1—Summary of Space Vehicle and Missile Launches From VAFB in 2012
Vehicle | Date (2012) | Launch site | Monitored
Minuteman III GT-203GM | 25-Feb | LF-10 | No.
Delta IV NROL-25 | 3-Apr | SLC-6 | Yes (boom and time-lapse only).
Atlas V NROL-36 | 13-Sep | SLC-3E | Yes (boom and acoustics only).
Minuteman III GT-206GM | 14-Nov | LF-10 | No.

The Delta IV launch occurred during the harbor seal pupping season, requiring monitoring on VAFB. Sonic boom modeling was conducted for both space vehicle launches. The modeling indicated that a sonic boom of greater than 1 lb/ft² (psf) would occur at SMI as a result of the Atlas V launch, requiring acoustical and biological monitoring.

Neither of the missile launches required monitoring at SMI because the westerly trajectory of these launches. Similarly, both missile launches occurred outside of the VAFB harbor seal pupping season; therefore, no biological or acoustical monitoring was required or performed on VAFB for these two launches.

During the reporting period, 651 fixed-wing aircraft and helicopter operations were conducted from the VAFB airfield. Most of these consisted of training exercises involving “touch and goes”. There were no observed impacts to pinnipeds from these activities.

Delta IV Launch (April 3, 2012)

Counts of harbor seals done between March 26 and April 2, 2012, recorded from 2 to 111 adult and sub-adult seals. From 0 to 16 pups were observed, along with one California sea lion. One dead pup with wounds suggestive of a shark attack washed ashore on March 26. The next day, a dead, newly born pup with its umbilicus still attached was noted at one of the sites. Both sightings occurred prior to the actual launch. Post-launch counts ranged from 88 to 144 adult and sub-adult seals and from 8 to 12 pups. The 2-week follow-up count revealed up to 154 adult and sub-adult harbor seals and up to 25 pups.

Time-lapse video monitoring was conducted of this launch. The footage revealed that all 42 harbor seals hauled out at the monitoring location (First Ledge on south VAFB) were alerted by the noise and moved rapidly toward the sea. All but two scurried into the water. Up to 10 animals soon returned but went back in the ocean as the tide rose (MSRS, 2012).

In summary, based on post-launch analysis, there was no evidence of injury, mortality, or abnormal behavior in any of the monitored pinnipeds on VAFB as a result of this launch.

Atlas V Launch (September 13, 2012)

Biological monitoring for this launch was required at SMI, since the sonic boom models predicted overpressures in excess of 1 psf there. Monitoring for this launch was conducted at Cardwell Point. California sea lions, northern elephant seals, and Pacific harbor seals were present during the pre- and post-monitoring counts and on the day of the launch. No pups of any species were observed at this location. Counts on the days prior to the launch ranged from 209-912 for California sea lions, from 0-101 for northern elephant seals, and from 0-35 for harbor seals. On the day of the launch, 186-240 sea lions, 50-78 northern elephant seals, and 0-36 harbor seals were sighted. The same or higher numbers of sea lions and northern elephant seals were seen on the two days after the launch. No harbor seals were seen the following day, likely because of a very large surf with heavy surges and backwashes, preventing harbor seals from hauling out, although they were present just outside the breakers.

No reactions were noted on the part of the sea lions and elephant seals to the sonic boom. Of the 36 harbor seals present at the time of the boom, 20 dashed into the water. They began returning to shore within 30 min of the launch.

Acoustic monitoring was also conducted for this launch. The peak unweighted sound level was 122.8 dB re 20 μPa. During the 15 min before and the 15 min after the launch, the lowest ambient noise was 82.7 dB re 20 μPa, while the highest sounds—not associated with the launch—were 113.1 dB re 20 μPa.

In summary, there was no evidence of injury, mortality, or abnormal behavior of the monitored pinnipeds on SMI as a result of this launch.

Authorization

The USAF complied with the requirements of the 2012 LOA, and NMFS has determined that the marine mammal take resulting from the 2012 launches is within that analyzed in and anticipated by the associated regulations. Accordingly, NMFS has issued an LOA to the 30th Space Wing, USAF, authorizing the take by harassment of marine mammals incidental to space vehicle and test flight activities at VAFB. Issuance of this LOA is based on findings described in the preamble to the final rule (74 FR 6236, February 6, 2009) and supported by information contained in VAFB's 2012 annual report that the activities described under this LOA will have a negligible impact on marine mammal stocks. The provision requiring that the activity not have an unmitigable adverse impact on the availability of the affected species or stock for subsistence uses does not apply for this action.

Dated: January 31, 2013.
Helen M. Golde,
Acting Director, Office of Protected Resources, National Marine Fisheries Service.

[FR Doc. 2013-02447 Filed 2-4-13; 8:45 am]

BILLING CODE 3510-22-P